DEPARTMENT OF THE INTERIOR

Bureau of Land Management

[LLWO3200000-L19900000.PP0000]

Renewal of Approved Information Collection; OMB Control No. 1004-0114

AGENCY: Bureau of Land Management, Interior.

ACTION: 30-Day notice and request for comments.

SUMMARY: The Bureau of Land Management (BLM) has submitted an information collection request to the Office of Management and Budget (OMB) to continue the collection of information for the location, recording, and maintenance of mining claims and sites. The Office of Management and Budget (OMB) has assigned control number 1004-0114 to this information collection.

DATES: The OMB is required to respond to this information collection request within 60 days but may respond after 30 days. For maximum consideration, written comments should be received on or before November 18, 2016.

ADDRESSES: Please submit comments directly to the Desk Officer for the Department of the Interior (OMB #1004-0114), Office of Management and Budget, Office of Information and Regulatory Affairs, fax 202-395-5806, or by electronic mail at OIRA_submission@omb.eop.gov. Please provide a copy of your comments to the BLM. You may do so via mail, fax, or electronic mail.

Mail: U.S. Department of the Interior, Bureau of Land Management, 1849 C Street NW., Room 2134LM, Attention: Jean Sonneman, Washington, DC 20240.

Fax: To Jean Sonneman at 202-245-0050.

Electronic mail: jesonnem@blm.gov.

Please indicate “Attn: 1004-0114” regardless of the form of your comments.

FOR FURTHER INFORMATION CONTACT: Sonia Santillan, at 202-912-7123. Persons who use a telecommunication device for the deaf may call the Federal Information Relay Service at 1-800-877-8339, to leave a message for Ms. Santillan. You may also review the information collection request online at http://www.reginfo.gov/public/.

SUPPLEMENTARY INFORMATION: The Paperwork Reduction Act (44 U.S.C. 3501-3521) and OMB regulations at 5 CFR part 1320 provide that an agency may not conduct or sponsor a collection of information unless it displays a currently valid OMB control number. Until OMB approves a collection of information, you are not obligated to respond. In order to obtain and renew an OMB control number, Federal agencies are required to seek public comment on information collection and recordkeeping activities (see 5 CFR 1320.8(d) and 1320.12(a)).

As required at 5 CFR 1320.8(d), the BLM published a 60-day notice in the Federal Register on March 30, 2016 (81 FR 17730), and the comment period ended May 31, 2016. The BLM received no comments.

The BLM now requests comments on the following subjects:

1. Whether the collection of information is necessary for the proper functioning of the BLM, including whether the information will have practical utility;

2. The accuracy of the BLM's estimate of the burden of collecting the information, including the validity of the methodology and assumptions used;

3. The quality, utility and clarity of the information to be collected; and

4. How to minimize the information collection burden on those who are to respond, including the use of appropriate automated, electronic, mechanical, or other forms of information technology.

Please send comments as directed under ADDRESSES and DATES. Please refer to OMB control number 1004-0114 in your correspondence. Before including your address, phone number, email address, or other personal identifying information in your comment, you should be aware that your entire comment—including your personal identifying information—may be made publicly available at any time. While you can ask us in your comment to withhold your personal identifying information from public review, we cannot guarantee that we will be able to do so.

The following information pertains to this request:

Title: Recordation of Location Notices and Mining Claims; Payment of Fees (43 CFR parts 3832 through 3838).

OMB Control Number: 1004-0114.

Summary: The information that is collected in accordance with this control number enables the BLM to have records of mining claims and sites on Federal lands, and enables the BLM to determine which mining claims and sites claimants wish to continue to hold.

Frequency of Collection: On occasion, except Form 3830-2 (which may be filed annually) and annual FLPMA documents (which are to be filed annually when required).

Forms: Form 3830-2, Maintenance Fee Waiver Certification; and Form 3830-3, Notice of Intent to Locate a Lode or Placer Mining Claim(s) and/or a Tunnel Site(s) on Lands Patented under the Stock Raising Homestead Act of 1916, As Amended by the Act of April 16, 1993.

Description of Respondents: Mining claimants.

Estimated Annual Responses: 136,338.

Estimated Annual Burden Hours: 64,359.

Estimated Annual Non-Hour Costs: $1,699,860.

The estimated burdens are itemized in the following table:

A. | B. | C. | D.
Type of response | Number of responses | Time per response (minutes) | Total hours (Column B × Column C)
Notice of Intent to Locate Under the Stock Raising Homestead Act (43 CFR Part 3838) Form 3830-3 | 91 | 25 | 38
Locating Mining Claims or Sites (43 CFR Part 3832) | 28,122 | 30 | 14,061
Recording a New Location Notice (43 CFR Part 3833, Subpart A) | 28,122 | 30 | 14,061
Amending a Location Notice (43 CFR Part 3833, Subpart B) | 3,586 | 30 | 1,793
Transfer of Interest (43 CFR Part 3833, Subpart C) or Acquisition of a Delinquent Co-Claimant's Interests in a Mining Claim or Site (43 CFR Part 3837) | 27,530 | 30 | 13,765
Waiver from Annual Maintenance Fee (43 CFR Part 3835, Subpart A) Form 3830-2 and/or nonform data | 22,828 | 20 | 7,609
Annual FLPMA Documents (43 CFR part 3835, subpart C) Form 3830-4 | 26,054 | 30 | 13,027
Deferring Assessment Work (43 CFR Part 3836, Subpart B) | 5 | 60 | 5
Totals | 136,338 |  | 64,359

Jean Sonneman,
Bureau of Land Management, Information Collection Clearance Officer.

[FR Doc. 2016-25228 Filed 10-18-16; 8:45 am]

BILLING CODE 4310-84-P